DEPARTMENT OF COMMERCE

Submission For OMB Review; Comment Request

DOC has submitted to the Office of Management and Budget (OMB) for clearance the following proposal for collection of information under the provisions of the Paperwork Reduction Act (44 U.S.C. chapter 35).

Agency: U.S. Census Bureau.

Title: 2004 Census Test, Group Quarters Validation Test.

Form Number(s): DB-351 (GQV).

Agency Approval Number: None.

Type of Request: New collection.

Burden: 207 hours.

Number of Respondents: 825.

Avg Hours Per Response: 15 minutes.

Needs and Uses: The U.S. Census Bureau requests authorization from the Office of Management and Budget to conduct the 2004 Census Test Group Quarters Validation (GQV) Operation. The Census Bureau must provide everyone in the United States the opportunity to be counted, including persons who do not live in conventional housing units. As part of its research and development work for the 2010 census, the Census Bureau has scheduled a census test in 2004, which includes a new operation, GQV. The goal of this research and development work is to develop methods to improve the enumeration of the group quarters population in the next decennial census. In order to accomplish this goal, we are developing new procedures to verify and update the existing Census 2000 GQ inventory. In addition, GQV will attempt to properly classify other places with housing units that may be difficult to classify or that require special procedures such as hotels/motels and assisted living facilities.

GQV, in conjunction with the 2004 Census Test Address Canvassing operation, and the Group Quarters Validation Followup (GQVF), is planned to address the following research question:

Can we operationalize appropriate census operations to ultimately distinguish housing units from GQs, assign the correct GQ classifications, collect information about the special place associated with each GQ, improve the assignment of GQs to the correct geography, and reduce duplication between GQs and housing units?

Properly identifying and classifying GQs and other non-traditional living quarters by using improved definitions and methods for distinguishing between GQs and housing units in census operations should improve the data quality of Census 2010 by reducing duplication and improving coverage.

Affected Public: Individuals or households.

Frequency: One-time.

Respondent's Obligation: Mandatory.

Legal Authority: Title 13 U.S.C., sections 141 & 193.

OMB Desk Officer: Susan Schechter, (202) 395-5103.

Copies of the above information collection proposal can be obtained by calling or writing Diana Hynek, Departmental Paperwork Clearance Officer, (202)482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: August 28, 2003.
Madeleine Clayton,
Management Analyst, Office of the Chief Information Officer.

[FR Doc. 03-22523 Filed 9-3-03; 8:45 am]

BILLING CODE 3510-07-P